DEPARTMENT OF THE INTERIOR

Geological Survey

[GX23EN05ES90000; OMB Control Number 1028-NEW]

Agency Information Collection Activities; Submission to the Office of Management and Budget for Review and Approval; Evaluation of the Arctic Rivers Project

AGENCY: U.S. Geological Survey, Interior.

ACTION: Notice of information collection; request for comment.

SUMMARY: In accordance with the Paperwork Reduction Act (PRA), the U.S. Geological Survey (USGS) is proposing a new information collection.

DATES: Interested persons are invited to submit comments on or before March 29, 2023.

ADDRESSES: Written comments and recommendations for the proposed information collection should be sent within 30 days of publication of this notice to www.reginfo.gov/public/do/PRAMain. Find this particular information collection by selecting “Currently under 30-day Review—Open for Public Comments” or by using the search function. You may also submit comments by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this Information Collection Request (ICR), contact Ryan Toohey by email to rtoohey@usgs.gov or by telephone at 907-865-7802. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 6, 2022 (87 FR 34288. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: We will collect information from stakeholders of the Arctic Rivers Project, which include representatives of Indigenous communities in Alaska, representatives of Indigenous organizations, and others regarding the effectiveness of participatory methods and the achievement of overall project goals. Evaluation information will be collected via semi-structured interviews, surveys, and polls. Questions will focus on the relevancy of the project to participants, methods used to engage with participants, feedback about project components, input for the direction of the project, preferred communication methods, and current and future use of project products. This information will allow for a greater understanding of the effectiveness of community engagement, the co-production process, and participation in the direction of the project. This information will help guide the project through its various phases, and it will help enhance communication and product development.

Title of Collection: Evaluation of the Arctic Rivers Project.

OMB Control Number: 1028-NEW.

Form Number: None.

Type of Review: New.

Respondents/Affected Public: Individuals/Indigenous governments.

Total Estimated Number of Annual Respondents: 150.

Total Estimated Number of Annual Responses: 150.

Estimated Completion Time per Response: 180 minutes.

Total Estimated Number of Annual Burden Hours: 450.

Respondent's Obligation: Voluntary.

Frequency of Collection: Once.

Total Estimated Annual Nonhour Burden Cost: None.

An agency may not conduct or sponsor, nor is a person required to respond to, a collection of information unless it displays a currently valid OMB control number.

The authority for this action is the PRA (44 U.S.C. 3501 et seq.).

Stephen T. Gray,
Director, Alaska Climate Adaptation Science Center, U.S. Geological Survey.

[FR Doc. 2023-03977 Filed 2-24-23; 8:45 am]

BILLING CODE 4338-11-P